DEPARTMENT OF HEALTH AND HUMAN SERVICES

Centers for Disease Control and Prevention

Disease, Disability, and Injury Prevention and Control Special Emphasis Panel (SEP)—CE19-001, Injury Control Research Centers; Amended Notice of Meeting

Notice is hereby given of a change in the meeting of the Disease, Disability, and Injury Prevention and Control Special Emphasis Panel (SEP)—CE19-001, Injury Control Research Centers; October 30 and November 2, 2018, 8:30 a.m.-5:00 p.m., EDT, in the original FRN.

The Georgian Terrace, 659 Peachtree St. NE, Atlanta, GA 30308 which was published in the Federal Register on August 23, 2018, Volume 83, Number 164, pages 42655-42656.

The meeting is being amended to change the location and time to the Sheraton Atlanta Hotel, 165 Courtland Street NE, Atlanta, GA 30303; October 30-November 2, 2018, 8:00 a.m.-5:30 p.m., EDT. The meeting is closed to the public.

FOR FURTHER INFORMATION CONTACT: Mikel L. Walters, M.A., Ph.D., Scientific Review Official, NCIPC, CDC, 4770 Buford Highway NE, Mailstop F-63, Atlanta, Georgia 30341, (404) 639-0913; mwalters@cdc.gov.

The Director, Management Analysis and Services Office, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2018-20024 Filed 9-13-18; 8:45 am]

BILLING CODE 4163-18-P